SMALL BUSINESS ADMINISTRATION

Advisory Committee on Veterans Business Affairs

AGENCY: U.S. Small Business Administration.

ACTION: Notice of Federal Advisory Committee Meeting.

SUMMARY: The SBA is issuing this notice to announce the location, date, time, and agenda for the next meeting of the Advisory Committee on Veterans Business Affairs. The meeting will be open to the public.

DATES: Tuesday, July, 14, 2009, from 9 a.m. to 5 p.m. and Wednesday, July 15, 2009, from 9 a.m. to 5 p.m., Eastern Standard Time.

ADDRESSES: U.S. Small Business Administration, 409 3rd Street, SW., Washington, DC 20416.

SUPPLEMENTARY INFORMATION: Pursuant to section 10(a) (2) of the Federal Advisory Committee Act (5 U.S.C., Appendix 2), SBA announces the meeting of the Advisory Committee on Veterans Business Affairs. The Advisory Committee on Veterans Business Affairs serves as an independent source of advice and policy recommendation to the Administrator of the U.S. Small Business Administration.

The meeting is scheduled as a full committee meeting. The agenda will include: Presentations and discussions regarding Small Business Administration and other public lending programs for veterans and Reserve component members of the U.S. Military who are small business owners or who aspire to small business ownership. The purpose is to study, research, and make recommendations regarding Veterans Business Development to the SBA Administrator, the SBA Associate Administrator for Veterans Business Development, the Congress, and the President of the United States.

FOR FURTHER INFORMATION CONTACT: Anyone wishing to attend and/or make a presentation to the Advisory Committee on Veterans Business Affairs and will need accommodations because of a disability or require additional information, you must contact Cheryl Simms, Program Liaison, by July 10, 2009, by fax or e-mail, in order to be placed on the agenda. Cheryl Simms, Program Liaison, U.S. Small Business Administration, Office of Veterans Business Development, 409 3rd Street, SW., Washington, DC 20416, Telephone number: (202) 619-1697, Fax number: 202-481-6085, e-mail address: cheryl.simms@sba.gov.

For more information, please visit our Web site at http://www.sba.gov/vets.

Dated: June 9, 2009.
Meaghan K. Burdick,
SBA Committee Management Officer.

[FR Doc. E9-14771 Filed 6-23-09; 8:45 am]

BILLING CODE P